DEPARTMENT OF TRANSPORTATION

Federal Aviation Administration

14 CFR Part 71

[Docket No. FAA-2024-1226; Airspace Docket No. 23-AGL-40]

RIN 2120-AA66

Revocation of VOR Federal Airway V-360; Northcentral United States

AGENCY: Federal Aviation Administration (FAA), DOT.

ACTION: Final rule.

SUMMARY: This action revokes Very High Frequency Omnidirectional Range (VOR) Federal Airway V-360. The FAA is taking this action due to the Midland, Ontario (ON), Canada, VOR/Distance Measuring Equipment (VOR/DME) navigational aid (NAVAID) having been decommissioned in 2022. This action supports NAV CANADA's NAVAID Modernization Program efforts by removing unusable airway segments within United States airspace affected by NAV CANADA's programmatic actions.

DATES: Effective date 0901 UTC, September 5, 2024. The Director of the Federal Register approves this incorporation by reference action under 1 CFR part 51, subject to the annual revision of FAA Order JO 7400.11 and publication of conforming amendments.

ADDRESSES: A copy of this final rule and all background material may be viewed online at www.regulations.gov using the FAA Docket number. Electronic retrieval help and guidelines are available on the website. It is available 24 hours each day, 365 days each year.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the Air Traffic Service (ATS) route structure as necessary to preserve the safe and efficient flow of air traffic within the National Airspace System.

History

NAV CANADA, which operates Canada's civil air navigation service, has been implementing changes to Canada's instrument flight rules navigational infrastructure as part of their NAVAID Modernization Program. This modernization program is designed to enhance the efficiency of Canada's flying operations by taking advantage of performance-based navigation and area navigation avionics capabilities. As part of that modernization program, NAV CANADA decommissioned the Midland, ON, VOR/DME, which provided course guidance for V-360 cross-border connectivity between the United States and Canada, effective December 29, 2022.

After the Midland, ON, VOR/DME was decommissioned by NAV CANADA in 2022, the affected V-360 airway segment within Canadian airspace was removed from the aeronautical charts; however, the rulemaking action to remove the remaining portion of V-360 within United States airspace was not accomplished concurrently. The portion of V-360 that remains within United States airspace is an eight nautical mile segment that extends between the Sault Ste Marie, MI, VOR/DME and the “CFHMH” Computer Navigation Fix (CNF) which is located on the United States/Canada border. The remaining V-360 airway segment is no longer usable for cross-border connectivity between the United States and Canada since there is no Canadian airway for the airway segment to connect to. Additionally, CNFs are not used for any air traffic control purpose and are not available for pilots to use for point-to-point navigation (proceed direct), filing a flight plan, or in communications between aircraft and air traffic control (ATC).

As such, the remaining portion of V-360 within United States airspace between the Sault Ste Marie, MI, VOR/DME and the “CFHMH” CNF located on the United States/Canada border serves no useful purpose for ATC or pilots.

Incorporation by Reference

VOR Federal airways are published in paragraph 6010(a) of FAA Order JO 7400.11, Airspace Designations and Reporting Points, which is incorporated by reference in 14 CFR 71.1 on an annual basis. This document amends the current version of that order, FAA Order JO 7400.11H, dated August 11, 2023, and effective September 15, 2023. FAA Order JO 7400.11H is publicly available as listed in the ADDRESSES section of this document. This amendment will be published in the next update to FAA Order JO 7400.11.

FAA Order JO 7400.11H lists Class A, B, C, D, and E airspace areas, air traffic service routes, and reporting points.

The Rule

This action amends 14 CFR part 71 by revoking VOR Federal Airway V-360 due to NAV CANADA having decommissioned the Midland, ON, Canada, VOR/DME NAVAID in 2022. The V-360 airway segment within United States airspace no longer provides cross-border connectivity with any airways or routes within Canada and is unusable by ATC and pilots alike. The airway action is described below.

V-360: Prior to this final rule, V-360 extended between the Sault Ste Marie, MI, VOR/DME and the Midland, ON, Canada, VOR/DME, excluding the airspace within Canada. The airway is removed in its entirety due to the decommissioning of the Midland, ON, VOR/DME.

This action revoking V-360 does not affect any ATC cross-border operating requirements as the airway segment within United States airspace is unusable due to NAV CANADA having decommissioned the Midland, ON, VOR/DME in 2022; therefore, notice and public procedure under 5 U.S.C. 553(b) is unnecessary.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of revoking VOR Federal Airway V-360 qualifies for categorical exclusion under the National Environmental Policy Act (42 U.S.C. 4321 et seq.) and its implementing regulations at 40 CFR part 1500, and in accordance with FAA Order 1050.1F, “Environmental Impacts: Policies and Procedures,” paragraph 5-6.5.a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p.389.

§ 71.1 [Amended]

2. The incorporation by reference in 14 CFR 71.1 of FAA Order JO 7400.11H, Airspace Designations and Reporting Points, dated August 11, 2023, and effective September 15, 2023, is amended as follows:

Paragraph 6010(a) Domestic VOR Federal Airways.

* * * * *

V-360 [Removed]

* * * * *

Issued in Washington, DC, on June 11, 2024.
Frank Lias,
Manager, Rules and Regulations Group.

[FR Doc. 2024-13200 Filed 6-17-24; 8:45 am]

BILLING CODE 4910-13-P